ENVIRONMENTAL PROTECTION AGENCY

40 CFR Part 52

[CA 210-0266; FRL-6908-3]

California State Implementation Plan Revision, San Diego County Air Pollution Control District

AGENCY: Environmental Protection Agency (EPA).

ACTION: Removal of a direct final rule paragraph.

SUMMARY: Due to an adverse comment, EPA is removing a paragraph included in a direct final rule approving revisions to the California State Implementation Plan. EPA published the direct final rule on September 18, 2000 (65 FR 56251), approving a rule revision from the San Diego County Air Pollution Control District (SDCAPCD). As stated in that Federal Register document, if adverse or critical comments were received by October 18, 2000, the rule would not take effect and timely notice would be published in the Federal Register. However, EPA did not publsh the withdrawal before the effective date of the rule and is, therefore, removing a paragraph added by that rule. EPA has received adverse comments on that direct final rule and may address these comments in a final action within the near future. EPA will not institute a second comment period on this future final action.

DATES: 40 CFR 52.220(c)(255)(i)(F)(1) published at 65 FR 56251 is removed as of November 28, 2000.

FOR FURTHER INFORMATION CONTACT: Jerald S. Wamsley, Rulemaking Office (AIR-4), Air Division, U.S. Environmental Protection Agency, Region IX, 75 Hawthorne Street, San Francisco, CA 94105, Telephone: (415) 744-1226.

SUPPLEMENTARY INFORMATION: See the information provided in the direct final rule located in the final rules section of the September 18, 2000 Federal Register (65 FR 56251), and in the proposed rule located in the proposed rule section of the September 18, 2000 Federal Register (65 FR 56278).

EPA received an adverse comment concerning SDCAPCD Rule 67.11—Wood Products Coating Operations and the addition of 40 CFR 52.220(c)(255)(i)(F)(1). Prior to the close of the comment period, SDCAPCD requested that we withdraw our direct final approval action on the rule. Consequently, we are removing only the portion of the direct final rule published at 65 FR 56251 concerning SDCAPCD Rule 67.11. Today's action does not affect our other direct final rulemaking action approving Bay Area Air Quality Management District Rule 8-11—Metal container, Metal Closure, and Metal Coil Coating.

To conclude, 40 CFR 52.220(c)(255)(i)(F)(1) published at 65 FR 56251 is removed as of November 28, 2000.

List of Subjects in 40 CFR Part 52

Environmental protection, Air pollution control, Hydrocarbons, Incorporation by reference, Intergovernmental relations, Ozone, Reporting and recordkeeping requirements, Volatile organic compounds.

Dated: November 1, 2000.
Felicia Marcus,
Regional Administrator, Region IX.

Part 52, Chapter I, Title 40 of the Code of Federal Regulations is amended as follows:

PART 52—[AMENDED]

Subpart F—California

1. The authority citation for Part 52 continues to read as follows:

Authority: 42 U.S.C. 7401-7671q.

2. Section 52.220 is amended by removing and reserving paragraph (c)(255)(i)(F).

[FR Doc. 00-30115 Filed 11-27-00; 8:45 am]

BILLING CODE 6560-50-P